INTERNATIONAL TRADE COMMISSION

[Investigation Nos. 701-TA-498 and 731-TA-1213 (Final)]

Certain Steel Threaded Rod From India

Determinations

On the basis of the record ¹ developed in the subject investigations, the United States International Trade Commission (Commission) determines,² pursuant to sections 705(b) and 735(b) of the Tariff Act of 1930 (19 U.S.C. 1671d(b) and 19 U.S.C. 1673d(b)) (the Act), that an industry in the United States is not materially injured or threatened with material injury, and the establishment of an industry in the United States is not materially retarded by reason of imports of certain steel threaded rod from India, provided for in subheading 7318.15.50 of the Harmonized Tariff Schedule of the United States, that have been found by the Department of Commerce (Commerce) to be sold in the United States at less than fair value (LTFV) and subsidized by the Government of India.

¹ The record is defined in sec. 207.2(f) of the Commission's Rules of Practice and Procedure (19 CFR 207.2(f)).

² Commissioner Schmidtlein did not participate in these investigations.

Background

The Commission instituted these investigations effective June 27, 2013, following receipt of a petition filed with the Commission and Commerce by All America Threaded Products Inc., Denver, Colorado; Bay Standard Manufacturing Inc., Brentwood, California; and Vulcan Threaded Products Inc., Pelham, Alabama. The final phase of the investigations was scheduled by the Commission following notification of a preliminary determinations by Commerce that imports of certain steel threaded rod from India were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 17, 2014 (79 FR 3245) and revised on May 2, 2014 (79 FR 25152). The hearing was held in Washington, DC, on March 20, 2014, and all persons who requested the opportunity were permitted to appear in person or by counsel.

The Commission completed and filed its determinations in these investigations on August 18, 2014. The views of the Commission are contained in USITC Publication 4487 (August 2014), entitled Certain Steel Threaded Rod From India: Investigation Nos. 701-TA-498 and 731-TA-1213 (Final).

By order of the Commission.
Issued: August 19, 2014.
Lisa R. Barton,
Secretary to the Commission.

[FR Doc. 2014-19936 Filed 8-21-14; 8:45 am]

BILLING CODE 7020-02-P